DEPARTMENT OF JUSTICE

Antitrust Division

Notice Pursuant to the National Cooperative Research and Production Act of 1993—Vendor Security Alliance

Notice is hereby given that, on October 19, 2016, pursuant to Section 6(a) of the National Cooperative Research and Production Act of 1993, 15 U.S.C. 4301 et seq. (“the Act”), Vendor Security Alliance (“VSA”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Airbnb, Inc., San Francisco, CA; Atlassian Pty Ltd., Sydney, NSW, Australia; Docker, Inc.; San Francisco, CA; Dropbox, Inc., San Francisco, CA; GoDaddy.com, LLC, Scottsdale, AZ; Palantir Technologies, Inc., Palo Alto, CA; Square, Inc., San Francisco, CA; Twitter, Inc., San Francisco, CA; and Uber Technologies, Inc., San Francisco, CA.

The general area of VSA's planned activity is: Improving Internet security and streamlining vendor security compliance by developing a standardized way for companies to assess cybersecurity practices.

Patricia A. Brink,
Director of Civil Enforcement, Antitrust Division.

[FR Doc. 2016-27402 Filed 11-14-16; 8:45 am]

BILLING CODE P